DEPARTMENT OF COMMERCE

National Oceanic and Atmospheric Administration

50 CFR Part 660

[Docket No. 210521-0115]

RIN 0648-BK61

Fisheries Off West Coast States; West Coast Salmon Fisheries; 2021 Management Measures; Correction

AGENCY: National Marine Fisheries Service (NMFS), National Oceanic and Atmospheric Administration (NOAA), Commerce.

ACTION: Final rule; correction.

SUMMARY: NMFS established fishery management measures for the 2021 ocean salmon fisheries off Washington, Oregon, and California, and the 2022 salmon seasons opening earlier than May 16, 2022. The final rule, published in the Federal Register on May 14, 2021, included a transcription error in the management measures for the recreational salmon fishery in the area from Pigeon Point, CA, to the U.S./Mexico border (Monterey management area). This action corrects that error by adding the language that was omitted from the May 14, 2021, rule.

DATES: Effective May 24, 2021.

FOR FURTHER INFORMATION CONTACT: Peggy Mundy at 206-526-4323.

SUPPLEMENTARY INFORMATION: The final rule published May 14, 2021, (86 FR 26425), describes annual management measures for managing the harvest of salmon in the ocean waters under the jurisdiction of the Pacific Fishery Management Council (Council). This document corrects an error in the May 14, 2021 rule by adding management measures for the recreational salmon fishery in the Monterey management area to make the 2021 salmon fisheries consistent with the Council's recommendations.

Need for Correction

The 2021 salmon management measures (86 FR 26425, May 14, 2021), Section 2, part A describes the recreational salmon fisheries in the Monterey management area. There is a transcription error in this part of the rule, rendering it inconsistent with the Council's recommendations for the 2021 salmon management measures, as adopted at their April 2021 meeting. The May 14, 2021 rule omitted the May 16-September 30, 2021 fishery in the Monterey management area, which was recommended by the Council.

Correction

In FR Doc. 2021-10035, appearing on page 26425, in the Federal Register of Friday, May 14, 2021, the following correction is made:

On page 26435, in the third column, the description of the recreational salmon fishery from Pigeon Point to U.S./Mexico border (Monterey) management area is corrected to read as follows:

—Pigeon Point to U.S./Mexico border (Monterey)

April 3-May 15 (C.6). Open seven days per week. All salmon except coho salmon, two salmon per day (C.1). Chinook salmon minimum size limit of 24 inches total length (B). See gear restrictions and definitions (C.2, C.3).

May 16-September 30 (C.6). Open seven days per week. All salmon except coho salmon, two salmon per day (C.1). Chinook salmon minimum size limit of 20 inches total length (B). See gear restrictions and definitions (C.2, C.3).

In 2022, season opens April 2 for all salmon except coho salmon, two salmon per day (C.1). Chinook salmon minimum size limit of 24 inches total length (B); and the same gear restrictions as in 2021 (C.2, C.3). This opening could be modified following Council review at its March 2022 meeting.

Classification

NMFS is issuing this rule pursuant to 305(d) of the MSA. The reason for using this regulatory authority is: In a previous action taken pursuant to section 304(b), the Council designed the Fishery Management Plan (FMP) to authorize NMFS to take this action pursuant to MSA section 305(d). See 50 CFR 660.408. These regulations are being promulgated under the authority of 16 U.S.C. 1855(d) and 16 U.S.C. 773(c). The NMFS Assistant Administrator has determined that this final rule is consistent with the Pacific Coast Salmon FMP and other applicable law.

The Assistant Administrator for Fisheries, NOAA (AA) finds good cause under 5 U.S.C. 553(b)(B), to waive the requirement for prior notice and opportunity for additional public comment for this action as notice and comment would be unnecessary and contrary to the public interest. Notice and comment are unnecessary and contrary to the public interest because this action simply corrects an error in the final rule and makes the rule consistent with the Council's recommended action. This correction does not affect the results of analyses conducted to support management decisions in the salmon fishery nor change the total catch of salmon. In addition, it is important that the error be corrected as quickly as possible. The correction eliminates an inconsistency between the May 14, 2021 rule and the Council's recommendation that may lead to confusion for the public and potentially prevent the prosecution of fisheries. No aspect of this action is controversial and no change in operating practices in the fishery is required. For the same reasons, pursuant to 5 U.S.C. 553(d), the AA finds good cause to waive the 30-day delay in effective date.

Because prior notice and opportunity for public comment are not required for this rule by 5 U.S.C. 553, or any other law, the analytical requirements of the Regulatory Flexibility Act, 5 U.S.C. 601 et seq., are inapplicable.

This final rule is exempt from review under Executive Order 12866.

Authority: 16 U.S.C. 773-773k; 1801 et seq.

Dated: May 21, 2021.
Samuel D. Rauch, III,
Deputy Assistant Administrator for Regulatory Programs, National Marine Fisheries Service.

[FR Doc. 2021-11156 Filed 5-24-21; 8:45 am]

BILLING CODE 3510-22-P